DEPARTMENT OF HEALTH AND HUMAN SERVICES

Centers for Disease Control and Prevention

Disease, Disability, and Injury Prevention and Control Special Emphasis Panel (SEP): Autism Therapy Evaluation Effects of Hyperbaric Oxygen Therapy on Children With Autism, Request For Application (RFA), DD8EM-801

Correction: This notice was published in the Federal Register on January 27, 2009, Volume 74, Number 16, page 4752. The aforementioned meeting has been rescheduled to the following:

Time and Date: 3:30 p.m.-5 p.m., February 12, 2009 (Closed).

Contact Person for More Information: Brenda Colley Gilbert, Ph.D., Scientific Review Administrator, 2877 Brandywine Road, Atlanta, Georgia 30341, telephone: (770) 488-8390.

The Director, Management Analysis and Services Office, has been delegated the authority to sign Federal Register notices pertaining to announcements of meetings and other committee management activities, for both CDC and the Agency for Toxic Substances and Disease Registry.

Dated: January 27, 2009.
Elaine L. Baker,
Director, Management Analysis and Services Office, Centers for Disease Control and Prevention.

[FR Doc. E9-2302 Filed 2-3-09; 8:45 am]

BILLING CODE 4163-18-P